DEPARTMENT OF JUSTICE

[OMB Number: 1121-0235]

Agency Information Collection Activities; Proposed eCollection eComments Requested; Extension With Change, of a Currently Approved Collection

AGENCY: Office of Justice Programs, Department of Justice.

ACTION: 30-Day notice.

SUMMARY: The Bureau of Justice Assistance, Office of Justice Programs, Department of Justice is submitting the following information collection request to the Office of Management and Budget (OMB) for review and approval in accordance with the Paperwork Reduction Act of 1995.

DATES: The Department of Justice encourages public comment and will accept input until October 26, 2022.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

• Evaluate whether the proposed collection of information is necessary for the proper performance of the functions of the Bureau of Justice Assistance, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Patrick Leahy Bulletproof Vest Program Application.

3. The agency form number: None. The program application can be found at the Bureau of Justice Assistance, United States Department of Justice's website at https://grants.ojp.usdoj.gov/bvp/login/externalAccess.jsp.

4. Affected public who will be asked or required to respond, as well as a brief abstract: Jurisdictions and law enforcement agencies with armor vest needs.

5. An estimate of the total number of respondents and the amount of time estimated for an average respondent to respond: It is estimated that no more than 4,500 respondents will apply each year. Each application takes approximately 1 hour to complete.

6. An estimate of the total public burden (in hours) associated with the collection: Approximately 4,500 hours.

If additional information is required contact: Robert Houser, Department Clearance Officer, United States Department of Justice, Justice Management Division, Policy and Planning Staff, Two Constitution Square, 145 N Street NE, 3E.405A, Washington, DC 20530.

Dated: September 21, 2022.
Robert Houser,
Department Clearance Officer for PRA, Office of the Chief Information Officer, U.S. Department of Justice.

[FR Doc. 2022-20771 Filed 9-23-22; 8:45 am]

BILLING CODE 4410-18-P